DEPARTMENT OF HEALTH AND HUMAN SERVICES

Food and Drug Administration

21 CFR Part 101

[Docket No. FDA-2014-N-1021]

RIN 0910-AH00

Food Labeling; Gluten-Free Labeling of Fermented or Hydrolyzed Foods; Correction

AGENCY: Food and Drug Administration, HHS.

ACTION: Final rule; correction.

SUMMARY: The Food and Drug Administration (FDA or we) is correcting a final rule that published in the Federal Register of August 13, 2020. The final rule establishes requirements concerning “gluten-free” labeling for foods that are fermented or hydrolyzed or that contain fermented or hydrolyzed ingredients.

DATES: Effective October 13, 2020.

FOR FURTHER INFORMATION CONTACT: Carol D'Lima, Center for Food Safety and Applied Nutrition (HFS-820), Food and Drug Administration, 5001 Campus Dr., College Park, MD 20740, 240-402-2371, Carol.Dlima@fda.hhs.gov.

SUPPLEMENTARY INFORMATION: In the Federal Register of Thursday, August 13, 2020, (85 FR 49240), FDA published the final rule “Food Labeling; Gluten-Free Labeling of Fermented or Hydrolyzed Foods” with a typographical error in the SUMMARY section. In addition, the rule was published with two different effective dates.

In FR Doc. 2020-17088, appearing in the Federal Register of Thursday, August 13, 2020, the following corrections are made:

On page 49241, in the first column, the second sentence is corrected to read as follows: “These requirements are needed to help ensure that individuals with celiac disease are not misled and receive truthful and accurate information with respect to fermented or hydrolyzed foods labeled as `gluten-free.'”

On page 49254, in section VI. Effective and Compliance Dates, in the first column, the first sentence is corrected to read as follows: “This rule is effective October 13, 2020.” This confirms the rule is effective October 13, 2020, and is consistent with the effective date stated earlier on page 49241.

Dated: August 31, 2020.
Lauren K. Roth,
Associate Commissioner for Policy.

[FR Doc. 2020-19569 Filed 9-4-20; 4:15 pm]

BILLING CODE 4164-01-P